DEPARTMENT OF HEALTH AND HUMAN SERVICES

National Institutes of Health

National Cancer Institute; Amended Notice of Meeting

Notice is hereby given of a change in the meeting of the National Cancer Institute Special Emphasis Panel, October 03, 2013, 09:00 a.m. to October 03, 2013, 12:00 p.m., National Cancer Institute Shady Grove, 9609 Medical Center Drive, Room 6W032, Rockville, MD, 20850 which was published in the Federal Register on August 28, 2013, 78FR53154.

Due to the absence of either an FY 2014 appropriation or Continuing Resolution for the Department of Health and Human Services, the meeting is rescheduled for December 3, 2013 from 8:00 a.m. to 11:00 a.m. The meeting location remains the same. The meeting is closed to the public.

Dated: November 1, 2013.
Melanie J. Gray,
Program Analyst, Office of Federal Advisory Committee Policy.

[FR Doc. 2013-26627 Filed 11-6-13; 8:45 am]

BILLING CODE 4140-01-P